DEPARTMENT OF THE INTERIOR

Office of Natural Resources Revenue

30 CFR Part 1206

Product Valuation

CFR Correction

In Title 30 of the Code of Federal Regulations, Part 700 to End, revised as of July 1, 2012, on page 742, in § 1206.57, in paragraph (c)(3), the first sentence is corrected to read as follows:

§ 1206.57 Determination of transportation allowances.

* * * * *

(c) * * *

(3) ONNR may establish reporting dates for individual lessees different from those specified in this subpart in order to provide more effective administration. * * *

* * * * *

[FR Doc. 2013-15691 Filed 6-27-13; 8:45 am]

BILLING CODE 1505-01-D